COMMODITY FUTURES TRADING COMMISSION

Technology Advisory Committee; Notice of Meeting

AGENCY: Commodity Futures Trading Commission.

ACTION: Notice of Meeting.

SUMMARY: The Commodity Futures Trading Commission (“CFTC” or “Commission”) announces that on Tuesday, January 26, 2016, from 9:45 a.m. to 3:45 p.m., the CFTC's Technology Advisory Committee (“TAC”) will hold a public meeting at the CFTC's Washington, DC headquarters. The TAC will discuss: (1) The Commission's proposed Regulation Automated Trading (“Reg AT”); (2) swap data standardization and harmonization; and (3) blockchain and the potential application of distributed ledger technology to the derivatives market.

DATES: The meeting will be held on Tuesday, January 26, 2016 from 9:45 a.m. to 3:45 p.m. Members of the public who wish to submit written statements in connection with the meeting should submit them by Tuesday, January 26, 2016.

ADDRESSES: The meeting will take place in the Conference Center at the CFTC's headquarters, Three Lafayette Centre, 1155 21st Street NW., Washington, DC 20581. Written statements should be submitted by mail to: Commodity Futures Trading Commission, Three Lafayette Centre, 1155 21st Street NW., Washington, DC 20581, attention: Office of the Secretary, or by electronic mail to: secretary@cftc.gov. Please use the title “Technology Advisory Committee” in any written statement you submit. Any statements submitted in connection with the committee meeting will be made available to the public, including publication on the CFTC Web site, at http://www.cftc.gov.

FOR FURTHER INFORMATION CONTACT: Ward P. Griffin, TAC Designated Federal Officer, Commodity Futures Trading Commission, Three Lafayette Centre, 1155 21st Street NW., Washington, DC 20581, (202) 418-5425.

SUPPLEMENTARY INFORMATION: The meeting will be open to the public with seating on a first-come, first-served basis. Members of the public may also listen to the meeting by telephone by calling a domestic toll-free telephone or international toll or toll-free number to connect to a live, listen-only audio feed. Call-in participants should be prepared to provide their first name, last name, and affiliation.

Domestic Toll Free: 1-866-844-9416.

International Toll and Toll Free: Will be posted on the CFTC's Web site, http://www.cftc.gov, on the page for the meeting, under Related Documents.

Pass Code/Pin Code: CFTC.

After the meeting, a transcript of the meeting will be published through a link on the CFTC's Web site, http://www.cftc.gov. All written submissions provided to the CFTC in any form will also be published on the CFTC's Web site. Persons requiring special accommodations to attend the meeting because of a disability should notify the contact person above.

Authority: 5 U.S.C. app. 2 § 10(a)(2).

Dated: January 6, 2016.
Robert N. Sidman,
Deputy Secretary of the Commission.

[FR Doc. 2016-00297 Filed 1-8-16; 8:45 am]

BILLING CODE 6351-01-P